DEPARTMENT OF ENERGY

Federal Energy Regulatory Commission

[Docket Nos. IS06-191-000, IS06-191-001, IS06-191-002]

Colonial Pipeline Company; Notice Cancelling Technical Conference

April 21, 2006.

Take notice that the technical conference scheduled to be convened on Wednesday, May 3, 2006, at 10 a.m. (EDT) at the offices of the Federal Energy Regulatory Commission (FERC), 888 First Street, NE., Washington, DC 20426 is cancelled. On April 19, 2006, Colonial Pipeline Company filed a withdrawal of Supplement No. 10 to FERC 68 and Supplement No. 3 to FERC 81. This withdrawal terminates the proceeding in Docket Nos. IS06-191-000, et al. For further information, please contact Joe Athey at (202) 502-8138 or e-mail joseph.athey@ferc.gov.

Magalie R. Salas,
Secretary.

[FR Doc. E6-6390 Filed 4-27-06; 8:45 am]

BILLING CODE 6717-01-P